DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: International Fisheries Trade to Include Shrimp and Abalone.

OMB Control Number: 0648-xxxx.

Form Number(s): None.

Type of Request: Regular (request for a temporary new information collection).

Number of Respondents: 651.

Average Hours Per Response: International Fisheries Trade Permit, 5 minutes; data entry, 1 hour.

Burden Hours: 70,054.

Needs and Uses: The Seafood Traceability Program (see 50 CFR 300.320-300.325) is the first phase of a risk-based traceability program, which establishes permit, reporting and recordkeeping requirements needed to prevent illegally harvested and misrepresented seafood from entering into U.S. Commerce. In the development of the Seafood Traceability Program rule, 13 “priority” species were identified as being most at risk for Illegal, Unreported, and Unregulated (IUU) fishing and misrepresentation, and are the only species currently subject to this program. For two of those species (abalone and shrimp), NMFS stayed program requirements indefinitely (50 CFR 300.324(a)(3)). See 81 FR 88975 (December 9, 2016). A final rule was published on April 24, 2018 (83 FR 17762) which lifted the stay and established a compliance date of December 31, 2018 for shrimp and abalone.

NMFS had stayed requirements for abalone and shrimp because gaps existed in the collection of traceability information for domestic aquaculture-raised shrimp and abalone, which is currently largely regulated at the state level. During development of the Seafood Traceability Program, NMFS explored the possibility of working with its state partners to establish reporting and recordkeeping requirements for aquaculture traceability information that could be shared with NMFS. However, this did not prove to be a viable approach. See 81 FR at 88977-78. In the Seafood Import Monitoring Program final rule, NMFS explained that “[A]t such time that the domestic reporting and recordkeeping gaps have been closed, NMFS will then publish an action in the Federal Register to lift the stay of the effective date for § 300.324(a)(3) of the rule pertaining to shrimp and abalone. Adequate advance notice to the trade community would be provided” to ensure all affected parties have sufficient time to come into compliance.

On March 23, 2018, the Consolidated Appropriations Act of 2018 (Pub. L. 115-141) was signed by the President and became law. Section 539 of Division B of the Act directed the Secretary of Commerce to, within 30 days, “lift the stay on the effective date of the final rule for the Seafood Traceability Program published by the Secretary on December 9, 2016, (81 FR 88975 et seq.) for the species described in § 300.324(a)(3) of title 50, Code of Federal Regulations: provided that the compliance date for the species described in § 300.324(a)(3) of title 50, Code of Federal Regulations, shall occur not later than December 31, 2018.” A final rule was issued to implement the Act (83 FR 17762, April 24, 2018) and provides that shrimp and abalone will be subject to the requirements of the Seafood Traceability Program under 50 CFR 300.324(a)(3), with a compliance date December 31, 2018.

The Program consists of two components: (1) Reporting of harvest events at the time of entry; and (2) permitting and recordkeeping requirements with respect to both harvest events and chain of custody information. See 50 CFR 300.324 and id. §§ 300.320-300.323 and 300.325. Application of the program's reporting and recordkeeping requirements to shrimp and abalone will enable audits of imports to be conducted to determine the origin of the products and confirm that they were lawfully acquired.

The final rule to lift the stay on shrimp and abalone contains a collection-of-information requirement subject to review and approval by OMB under the Paperwork Reduction Act (PRA). OMB had previously approved the information collection requirements for the Seafood Traceability Program under Control Number 0648-0739, but the burden estimates did not include the requirements for shrimp and abalone given the stay. The requirements for permitting, reporting and recordkeeping for imports of shrimp and abalone will be submitted to OMB for approval.

Affected Public: Business or other for-profit organizations.

Frequency: One time and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: November 19, 2018.
Sarah Brabson,
NOAA PRA Clearance Officer.

[FR Doc. 2018-25613 Filed 11-23-18; 8:45 am]

BILLING CODE 3510-22-P